DEPARTMENT OF STATE
[Public Notice 4601]
Millennium Challenge Corporation Board of Directors; Sunshine Act Meeting

AGENCY:
Millennium Challenge Corporation, Department of State.

The Department of State is publishing this notice on behalf of the Millennium Challenge Corporation, pursuant to 5 U.S.C. 552b(e).

TIME AND DATE:

4-5 p.m., February 2, 2004; Open session to begin at 4 p.m. with closed session be held immediately following open session.

PLACE:
Department of State, C Street Entrance, Washington, DC 20520.

FOR FURTHER INFORMATION CONTACT:
Information on the meeting may be obtained from Ghadah Sabbagh at (202) 647-6286.

STATUS:
Meeting open to the public from 4 p.m. until conclusion of the open session; closed session will commence immediately following the conclusion of the open session.

Matters to be Considered:
The Board of Directors (the “Board”) of the Millennium Challenge Corporation (“MCC”) will hold an initial meeting of the Board to discuss certain MCC operational and administrative matters and the identification of countries, which will be candidates for assistance in FY2004 under Title VI of the Foreign Operations, Export Financing, and Related Programs Appropriations Act, 2004. Other than with respect to the portion of the meeting relating to potential candidate countries, which is expected to involve the consideration of classified information, the meeting will be conducted in an open session. A closed session, if necessary and approved by the Board, will be held immediately following the open session.
Due to security requirements at the meeting location, all individuals wishing to attend the open session of the meeting must notify Ghadah Sabbagh at (202) 647-6286 (sabbaghgb@state.gov) of their intention to attend the meeting by noon on Friday, January 30, 2004 and must comply with all relevant security requirements of the Department of State, including providing the necessary information to obtain any required clearance. Seating for the open session will be available on a first come, first served basis.

Dated: January 28, 2004.
Alan Larson,
Undersecretary for Economic, Business and Agricultural Affairs, Department of State.

[FR Doc. 04-2058 Filed 1-28-04; 2:14 pm]
BILLING CODE 4710-07-P